PRIVACY AND CIVIL LIBERTIES OVERSIGHT BOARD

[Notice-PCLOB-2014-01; Docket No. 2014-0001; Sequence No. 1]

Sunshine Act Meeting

TIME AND DATE: Thursday, January 23, 2014 from 1:00 p.m.-2:00 p.m. (Eastern standard time).

PLACE: Will be announced on the www.pclob.gov Web page.

STATUS: This meeting will be open to the public.

MATTERS TO BE CONSIDERED: The Privacy and Civil Liberties Oversight Board will meet for the disposition of official business. At the meeting, the Board will be voting on the issuance of its report on the surveillance program operated pursuant to Section 215 of the USA PATRIOT Act and the operations of the Foreign Intelligence Surveillance Court. Additional information on the Board's review of this program, such as the prior public workshop and hearing, is available at www.pclob.gov.

Procedures for Public Observation

The meeting is open to the public. Pre-registration is not required. Individuals who plan to attend and require special assistance should contact Ms. Susan Reingold, Chief Managing Officer, 202-331-1986, at least 72 hours prior to the meeting date.

CONTACT PERSON FOR MORE INFORMATION: Ms. Susan Reingold, Chief Management Officer, 202-331-1986.

Dated: January 13, 2014.
Diane Janosek,
Chief Legal Officer, Privacy and Civil Liberties Oversight Board.

[FR Doc. 2014-00838 Filed 1-14-14; 11:15 am]

BILLING CODE 6820-B3-P